INTERNATIONAL TRADE COMMISSION

[Corrected; Inv. No. 337-TA-906]

Certain Standard Cell Libraries, Products Containing or Made Using the Same, Integrated Circuits Made Using the Same, and Products Containing Such Integrated Circuits; Institution of Investigation Pursuant to 19 U.S.C. 1337

AGENCY: U.S. International Trade Commission

ACTION: Correction of Institution of investigation pursuant to 19 U.S.C. 1337.

SUMMARY: Correction is made to the Scope of Investigation section. The date the Commission ordered action under the scope should be corrected from January 7, 2014 to January 17, 2014.

By order of the Commission.
Issued: January 24, 2014.
Lisa R. Barton,
Secretary to the Commission.

[FR Doc. 2014-01704 Filed 1-28-14; 8:45 am]

BILLING CODE 7020-02-P